DEPARTMENT OF HEALTH AND HUMAN SERVICES

Centers for Medicare & Medicaid Services

[Document Identifier: CMS-179, CMS-10536, CMS-R-153 and CMS-10326]

Agency Information Collection Activities: Proposed Collection; Comment Request; Withdrawal

AGENCY: Centers for Medicare & Medicaid Services, HHS.

ACTION: Notice; withdrawal.

SUMMARY: On Tuesday, July 2, 2024, the Centers for Medicare & Medicaid Services (CMS) published a notice entitled, “Agency Information Collection Activities: Proposed Collection; Comment Request.” The document invited public comments on four separate information collection requests notices specific to document identifiers: CMS-179, CMS-10536, CMS-R-153 and CMS-10326. Through the publication of this document, we are withdrawing each of the aforementioned notices.

DATES: The comment period associated with the publication for CMS-179, CMS-10536, CMS-R-153 and CMS-10326 on July 2, 2024 (89 FR 54826), will be null and void upon publication of this document.

SUPPLEMENTARY INFORMATION: Each of the aforementioned notices already published on June 28, 2024 (89 FR 54002) and the comment period associated with that publication remains in full effect.

In FR document, 2024-14581, published on July 2, 2024 (89 FR 54826), we are withdrawing all four of the notices listed in the Information Collections section of the document.

William N. Parham, III,
Director, Division of Information Collections and Regulatory Impacts, Office of Strategic Operations and Regulatory Affairs.

[FR Doc. 2024-15097 Filed 7-9-24; 8:45 am]

BILLING CODE 4120-01-P